DEPARTMENT OF HOMELAND SECURITY

Coast Guard

33 CFR Part 117

[Docket No. USCG-2013-0607]

Drawbridge Operation Regulation; Delaware River, NJ

AGENCY: Coast Guard, DHS.

ACTION: Notice of deviation from drawbridge regulation.

SUMMARY: The Coast Guard has issued a temporary deviation from the operating schedule that governs the bascule span of the Tacony-Palmyra Bridge (Route 73), across the Delaware River, mile 107.2, between the townships of Tacony, PA and Palmyra, NJ. The deviation is necessary to facilitate the replacement of the bridge deck. This deviation allows the bridge to remain in the closed to navigation position during the rehabilitation project.

DATES: This deviation is effective from 9 p.m. on Friday, August 16, 2013 until 9 p.m. on Friday, August 30, 2013.

ADDRESSES: The docket for this deviation [USCG-2013-0607] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone 757-398-6587, email Terrance.A.Knowles@uscg.mil. If you have questions on viewing the docket, call Barbara Hairston, Program Manager, Docket Operations, at 202-366-9826.

SUPPLEMENTARY INFORMATION: The Burlington County Bridge Commission, who owns and operates this bascule drawbridge, has requested a temporary deviation from the current operating regulations to facilitate the resurfacing of the bridge roadway.

The Tacony-Palmyra Bridge (Route 73) at mile 107.2, across the Delaware River, between PA and NJ, has a vertical clearance in the closed position of 53 feet above mean high water (MHW). This clearance will be reduced during the resurfacing by approximately three feet, to 50 feet above MHW.

Under the current operating schedule set out in 33 CFR 117.5 and 117.716(b): The regulation requires that the drawbridge must open promptly and fully for the passage of vessels when a request or signal to open is given, and that the opening not be delayed more than five minutes.

Under this temporary deviation, the bridge will be closed-to-navigation for resurfacing repairs, which will restrict the operation of the draw span from 9 p.m. on August 16, 2013 until 9 p.m. August 30, 2013.

Vessels that can pass under the bridge in the closed position may do so at all times and are advised to proceed with caution. Emergency openings cannot be provided. There are no alternate routes for vessels transiting this section of the Delaware River.

The Coast Guard has coordinated this with the Delaware Pilots, and will inform the users of the waterways through our Local and Broadcast Notices to Mariners of the closure period for the bridge so that vessels can arrange their transits to minimize any impact caused by the temporary deviation. Waterway traffic consists of freighters, recreational boats, tugs, and barges.

In accordance with 33 CFR 117.35(e), the drawbridge must return to its regular operating schedule immediately at the end of the effective period of this temporary deviation. This deviation from the operating regulations is authorized under 33 CFR 117.35.

Dated: July 3, 2013.
Waverly W. Gregory, Jr.,
Bridge Program Manager, Fifth Coast Guard District.

[FR Doc. 2013-16810 Filed 7-12-13; 8:45 am]

BILLING CODE 9110-04-P